DEPARTMENT OF TRANSPORTATION

National Highway Traffic Safety Administration

[Docket No. NHTSA-2025-0025]

Agency Information Collection Activities; Submission to the Office of Management and Budget for Review and Approval; Request for Comment; Investigation-Based Crash Data Studies

AGENCY: National Highway Traffic Safety Administration (NHTSA), Department of Transportation (DOT).

ACTION: Notice and request for comments on an extension with modification of a currently approved information collection.

SUMMARY: In compliance with the Paperwork Reduction Act of 1995 (PRA), this notice announces that the Information Collection Request (ICR) summarized below will be submitted to the Office of Management and Budget (OMB) for review and approval. The ICR describes the nature of the information collection and its expected burden. This document describes a currently approved collection of information for which NHTSA intends to seek approval from OMB for extension with modification on NHTSA's Investigation-Based Crash Data Studies: Crash Investigation Sampling System (CISS), Special Crash Investigation (SCI) and Special Study Data Collection. A Federal Register Notice with a 60-day comment period soliciting comments on the following information collection was published on April 10, 2025. NHTSA received comments from four individuals/entities.

DATES: Comments must be submitted on or before September 12, 2025.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact John Brophy, Crash Investigation Division (NSA-110), (202) 366-0318, National Highway Traffic Safety Administration, W53-301, U.S. Department of Transportation, 1200 New Jersey Avenue SE, Washington, DC 20590. Please identify the relevant collection of information by referring to its OMB Control Number 2127-0706.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Investigation-Based Crash Data Studies.

OMB Control Number: 2127-0706.

Form Number: Form 1278, 1280, 2046, 2047, 2048, 2049, HS Form 433D.

Type of Request: Request for extension with modification of a currently approved information collection.

Type of Review Requested: Regular.

Length of Approval Requested: 3 years from date of approval.

Summary of the Collection of Information: NHTSA is authorized, under 49 U.S.C. 30182 and 23 U.S.C. 403 to collect data on motor vehicle traffic crashes to aid in the identification of issues and the development, implementation, and evaluation of motor vehicle and highway safety countermeasures. For decades, NHTSA has been investigating crashes and collecting crash data through its Investigation-Based Crash Data Studies, namely the Crash Investigation Sampling System (CISS), Special Crash Investigation (SCI), and specific issue-based Special Study data collection studies. Although each of these systems satisfy different purposes and collect data in different manners, they all utilize the same core variables (e.g., forms), procedures and protocols for data collection.

On November 15, 2021, the Infrastructure Investment and Jobs Act (Pub. L. 117-58) was signed into law. The Crash Data section (section 24108) authorizes the Secretary of Transportation (NHTSA by delegation) to use funds to enhance the collection of data under CISSS by, among other things, including additional data collection sites and data collection types. NHTSA is seeking approval to modify the existing information collection to: (1) Increase the number of data collection sites to 73; (2) Expand the type of crashes investigated to include non-motorists, motorcycles and large vehicles (over 10,000 pounds gross vehicle weight rating) for 2025 and future years. NHTSA has also adjusted estimates to include the burden incurred by tow yards, hospitals, and law enforcement agencies in responding to the collections from the currently approved 56 to 73 data collection sites over the next three years. The Infrastructure Investment and Jobs Act requested that the Crash Investigation Sampling System (CISS) expand the number of data collection sites; include more crash types (non-motorists, motorcycles and large vehicles) and explore on-scene response. The current approval for Investigation-Based Crash Data Studies collection indicated a total annual 12,063 burden hours; this request increases the total annual burden hours to 17,521. The combined impact is an increase of 5,458 hours overall total annual burden from the currently approved information collection.

The CISS is a nationally representative sample of passenger vehicle crashes which focus on detailed investigation of passenger vehicle crashes, pedestrian crashes and motor-cycle crashes. It provides nationally representative data on fatal and nonfatal motor vehicle, pedestrian and motorcycle crashes for use in developing and evaluating federal motor vehicle safety standards and other safety countermeasures. The CISS began implementation in 2015 and by 2024 was collecting crash data from forty (40) fully operational sites. In 2024 the CISS started collecting data on pedestrian crashes. The CISS will start collecting data on motorcycle crashes in 2025 and large vehicle crashes in 2026. The CISS collects data at both the crash level through scene analysis and vehicle level through vehicle damage assessment together with injury source evidence and standardized coding.

The SCI Program is used to provide NHTSA with the most in-depth and detailed level of crash investigation data collected by the Agency. Generally, SCI investigations are conducted for crashes of special interest, such as those involving new or emerging safety technologies (e.g., those involving vehicles equipped with crash avoidance technologies or Automated Driving Systems (ADS)), school buses, motorcoaches, alternative fuel and hybrid vehicles, adaptive control equipped vehicles, fires, child restraints, and those relevant to safety defect investigations. The crash investigations are conducted to document crash circumstances, identify injury sources, evaluate safety countermeasure effectiveness and support Agency rulemaking actions. Investigations are also conducted to provide early detection of alleged or potential vehicle safety defects. Reports are generated from investigations and all are made available to the public. The crashes chosen for SCI investigation may be chosen throughout the year as they arise, or be part of a planned effort to look into a particular type of crash (such as crashes involving air bag deployment-related fatalities and injuries).

In addition to the above-referenced CISS and SCI data collections, NHTSA also conducts investigation-based special studies using the CISS and SCI infrastructure to answer questions on a specific topical aspect of vehicle and highway safety. In the special study cases, data is typically gathered remotely where documents and investigation details are requested from investigating agencies and the data is compiled, coded, and reported on collectively in a summary report detailing the issue. These special studies will utilize the same infrastructure CISS and SCI, as well as the same core variables (e.g. forms) and procedures and protocols. The cases may be selected from an agency's data set (i.e., CISS, SCI, or Fatality Analysis Reporting System (FARS)) or through other means (i.e., internet searches, news articles, and public notification). The cases may or may not be selected to provide a nationally representative sample of crashes. In the past, using the National Automotive Sampling System-Crashworthiness Data System (NASS-CDS) infrastructure, NHTSA conducted several investigation-based special studies, including studies on child occupant protection, air bag effectiveness, and pedestrian safety among others. NASS-CDS, operated from 1979 through 2015, and was the predecessor to CISS. Two recently completed special studies collected information on crashes that involved medium-duty trucks (trucks between 10,001 and 26,000 lbs.), pedestrians or pedalcyclists, and one in-progress special study is on first responders or construction or maintenance workers struck while performing official duties on the road.

NHTSA will also use the information collected through the CISS infrastructure to support NHTSA's Non-Traffic Surveillance (NTS). CISS Technicians review over a hundred and fifty thousand crash reports each year, and some of these reports are not applicable to the CISS program, but they may be applicable to the NTS data collection. NTS is a virtual data collection system designed to provide counts and details regarding fatalities and injuries that occur in non-traffic crashes and in non-crash incidents. Non-traffic motor vehicle crashes are a class of crashes that occur off the public trafficways. These crashes, subsequently referred to as “non-traffic crashes,” are mostly single-vehicle crashes on private roads, two vehicle crashes in parking facilities, or collisions with pedestrians in driveways. In addition, there are non-traffic incidents such as a vehicle falling on a person underneath or an unintentional carbon monoxide poisoning inside the vehicle. Non-traffic crash data is obtained through NHTSA's CISS, SCI, Crash Reporting Sampling System (CRSS), and FARS.

For the standard investigation-based crash data studies acquisition process, once a crash has been selected for investigation, crash technicians locate, visit, measure, and photograph the crash scene; locate, visit, inspect, and photograph involved vehicle(s); conduct a telephone or personal interview with the involved individuals or a surrogate (another person who can provide occupant or crash information, such as parents for a minor or parent or spouse for a deceased individual); and obtain and record crash injury information received from various medical data sources. These data are used to describe and analyze circumstances, mechanisms, and consequences of a cross section of towed, light passenger motor vehicle crashes in the United States. The collection of interview data aids in this effort.

For the special studies, the data is typically gathered following similar procedures, but is targeted to a specific issue (e.g., child occupant protection, crash causation factors) as opposed to an entire investigation. Special Studies investigations also typically only involve obtaining information from law enforcement, who provide access to and a copy of the crash report where the data is not electronic. They do not involve interviewing people involved in crashes, obtaining medical records or inspecting the vehicles. Each special study has specific requirements (i.e., types of crashes and/or data collected); however, the gathering of crash reports for these studies is similar to the gathering of crash reports in the CISS and SCI programs.

Description of the Need for the Information and Proposed Use of the Information: NHTSA investigates real-world crashes and collects detailed crash data through CISS, SCI, and Special Studies data collection programs to identify the primary factors related to the source of crashes and their injury outcomes. These detailed factors are utilized to develop and evaluate effective safety countermeasures including the establishment and enforcement of motor vehicle regulations that reduce the severity of injury and property damage caused by motor vehicle crashes. The data collected also give motor vehicle researchers an opportunity to specify areas in which improvements may be possible, design countermeasure programs, and evaluate the effects of existing and proposed safety measures.

60-Day Notice: A Federal Register notice with a 60-day comment period soliciting public comments on the following information collection was published on April 10, 2025 (90 FR 15384). NHTSA received comments from four individuals/entities on the 60-day notice. None of the comments necessitate a revision of the scope of the information collection or the estimates of the annual cost or burden hours.

An anonymous commenter recommended collecting comprehensive data on all motorized, non-motorized, and autonomous vehicles, with thorough scrutiny for all manufacturers. NHTSA replied that it is expanding data collection to cover a broader range of vehicle types and applies consistent scrutiny across all vehicle technologies.

Comments From Jocelyn Crowell and NHTSA's Responses

Jocelyn Crowell endorsed expanding crash data collection to more sites and crash types, emphasizing its importance for traffic safety, addressing rising fatalities—particularly pedestrian deaths—and enabling better policymaking. NHTSA responded, noting the expansion aligns with IIJA requirements and will improve data for safety initiatives.

Comments From David Viano and NHTSA's Responses

The comments from David Viano were highly critical of the CISS program and did not, in the agency's opinion, reflect the current program or its operations. CISS offers vast improvements over its predecessor program in many areas such as sample design, IT infrastructure, and injury data. Additionally, CISS delivers stakeholders more precise scene and vehicle information, which was one of the major requests of modernizing our data systems. The commenter's observations are addressed in detail below.

The commenter observed that “[s]ampling frequencies for crash selection are incorrect,” asserting that the current CISS crash sampling frequencies underrepresent older vehicles. Sampling is based on vehicle age (10% new, 6% mid-aged, 6% old) rather than injury severity, which the commenter alleges leads to database-wide bias. The commenter suggested that an alternative distribution—5%:5%:12%—would better capture crashes involving older vehicles, which he argues are critical for understanding the influence of socioeconomic status and driver behavior.

NHTSA's Response: Prior to the planned CISS expansion, the sampling frame covered all towed passenger vehicle crashes involving newer or older vehicles and resulting in all levels of injures or no injuries. The CISS target sample allocations (sampling frequencies) were valid prior to the program's expansion and remain so after adjustments required by the addition of new crash types. It was determined based on the data needs from the agency and outside stakeholders. Prior to the development of CISS, NHTSA completed a data needs assessment which included seeking input from the agency and outside stakeholders through the Federal Register and conducting a listening session to gain additional insight (see NHTSA-2012-0084 at www.regulations.gov). The feedback received from the assessment indicated high interests in crashes involving newer vehicles and/or serious injuries which are rare in the crash population. Please refer to NHTSA's Review of the National Automotive Sampling System: Report to Congress for more information.¹ To meet these analytic objectives, NHTSA established ten analysis domains and the target sample allocation that oversamples crashes involving newer vehicles and/or serious injuries. The original target sample allocation was 10%, 6%, 6% for domains 2, 5, and 8, respectively. This allocation was revised to 8%, 6%, 6% in 2020 because NHTSA increased the number of sampled cases per site, but crash population for domain 2 did not have enough cases to be selected. For more detailed information on the target sample allocation, refer to the Crash Investigation Sampling System (CISS) 2023 Analytical User's Manual.² To account for the unequal selection probabilities and other complex sample design features such as stratification and clustering, NHTSA applies a multi-step weighting process to produce unbiased, nationally representative estimates. For more information on the CISS sample design and weighting, please refer to Crash Investigation Sampling System: Sample Design and Weighting.³

¹ https://crashstats.nhtsa.dot.gov/Api/Public/ViewPublication/812128.

² https://crashstats.nhtsa.dot.gov/Api/Public/ViewPublication/813664.

³ https://crashstats.nhtsa.dot.gov/Api/Public/ViewPublication/812804.

The commenter asserts that “[w]eighting factors for serious injury are incorrect, particularly for some multi-vehicle crashes,” pointing out that NHTSA gives the same weight to all vehicles in a crash, even if the injury severity is very different. The commenter argues that doing so can overrepresent minor injuries in newer cars and underrepresent serious injuries in older ones.

NHTSA's Response: CISS selects cases (crashes) through a three-stage sample design. The case weight is calculated by taking the inverse of the selection probability for each sampled case. The case weights are used to make nationally representative estimates for CISS crashes as well as the vehicles and persons involved in those crashes. Therefore, all vehicles and persons involved in a crash have the same case weight.

The high case weights are valid. CISS has a small sample size (~3,000 cases) and uses an unequal selection probability sample design. The weight is determined by the police crash report (PCR) selection probability, which includes the oversampling factor, as well as other stage sampling components such as the primary sampling unit (PSU) selection probability and police jurisdiction (PJ) selection probability. For cases with extremely high case weights, NHTSA implements truncation adjustment in the weighting process. The example provided would be a domain 3 case. Typically, crashes in this domain do not have high weights. In 2023 CISS, the highest case weight for domain 3 is about 3,000. The maximum case weight in the 2023 CISS is around 20,000.

The commenter stated that “NASS-CDS estimates of fatalities do not match census counts in FARS,” and asserted that the same problems presumably exist with CISS.

NHTSA's Response: NHTSA is seeking approval only for the data collections specified in this request. NASS-CDS is not a data collection within this ICR. This assertion regarding NASS-CDS falls outside the scope of this ICR.

The purpose of CISS is to support in-depth analysis of crashes involving towed passenger vehicles nationwide. Correspondingly, the CISS target population represents crashes where at least one passenger vehicle is towed from the scene (for any reason). NHTSA achieves this representation by calibrating CISS case weights to the population crash counts by the ten analysis domains (domain 1: fatal crashes, domain 2, 5, 8: serious injury crashes, domain 3, 6, 9: injury crashes, 3, 7, 10: no injury crashes) to address potential coverage errors or bias due to the small sample size. These population crash counts are collected from all police jurisdictions (sampled or non-sampled) in the sampled PSUs.

NHTSA's decision to stop investigating older vehicles in 2009 was made in relation to the NASS-CDS, a legacy system that is no longer operational. CISS makes effort to access and inspect all vehicles involved in the sampled cases regardless of the vehicle age and towed reason.

The commenter argues that the complex statistical methods used, like Pareto sampling and Jackknife weights, lack proper validation especially at the PSU level. He believes these methods rely on unproven assumptions and are applied without a practical understanding of real-world crash deaths and serious injuries.

NHTSA's Response: CISS uses a complex sample design that is based on valid methods such as multi-stage clustering, stratification, and unequal selection probability sampling. The PSU sample is selected by stratified probability proportion to size (PPS) sampling which is the most common and validated sampling method. The PSU sample is a scalable sample which has allowed NHTSA to seamlessly expand data collection sites, as specified in the IIJA legislation. Please refer to the Crash Investigation Sampling System: Sample Design and Weighting ⁴ for more detailed information on the CISS PSU sample.

⁴ https://crashstats.nhtsa.dot.gov/Api/Public/ViewPublication/812804.

NHTSA calibrates PSU weights to the U.S. residential population count to address the population shifts. The second stage (PJ) sample is selected using a stratified Pareto sampling. The Pareto sampling method is approximately PPS and provides flexibility to address annual PJ frame changes. The third stage (Police Crash Report) sample also uses Pareto sampling method to select replacement cases when NHTSA is unable to access the vehicle for investigation. Replacement case selection framework greatly increases the vehicle acquisition rates thereby producing more useful cases for analysis in CISS.

For variance estimation, NHTSA provides the adjusted Jackknife replicate weights to capture the gain in efficiency due to the weight adjustments. Users can also use the Taylor Series method, Jackknife method, or other variance estimation methods provided in statistical software such as SAS. Please refer to the Crash Investigation Sampling System: Design Overview, Analytic Guidance, and FAQs ⁵ for more information on using other variance estimation methods.

⁵ https://crashstats.nhtsa.dot.gov/Api/Public/ViewPublication/812801.

The commenter claims that CISS “[m]ethods lack common sense validation of sampling methods, procedures and results,” asserting that these methods haven't been compared to known data sources—like matching CISS or NASS-CDS fatality estimates with FARS data or comparing serious injury estimates with hospital records. He argues that these checks should have been done both nationwide and at individual PSU sites.

NHTSA's Response: NHTSA's sampling methods used to select a nationally representative sample of towed passenger vehicle crashes are valid. NHTSA also uses statistically sound methodology to produce weights and estimates. CISS case weights are calibrated to the CISS population crash counts by the ten analysis domains (domain 1: fatal crashes, domain 2, 5, 8: serious injury crashes, domain 3, 6, 9: injury crashes, 3, 7, 10: no injury crashes) to address potential coverage errors or bias due to the small sample size. The population crash counts are collected from all police jurisdictions (sampled or non-sampled) within the sampled PSUs.

The commenter claims that CISS produces “[p]oorer quality case investigations compared to the earlier NASS-CDS,” stating that “CISS cases fail to: (a) adequately photograph vehicle structural damage, (b) measure intrusion at the seating area of injured occupants, (c) adequately photograph interior contact points for each injured occupant and (d) describe the precrash movements of vehicles, violations of traffic signs/signal. Overall, CISS cases are a degradation from NASS-CDS case files. There is large variability in quality among different PSU sites, demonstrating a lack of oversight and quality assurance across PSUs.”

NHTSA's Response: Each of the items in this part of comment will be addressed below. In response to claims that “CISS cases fail to . . .”

(a) adequately photograph vehicle structural damage: The CISS crash investigations publish much more highly detailed information than the NASS-CDS, relying on program protocols developed with input from law enforcement and salvage yards. Highly trained investigators make every effort to document crash-involved vehicles and produce high-quality images whenever they are accessible. Furthermore, documenting vehicle structural damage is not permitted as investigators are prohibited from removing or altering vehicle components during their inspections.

(b) measure intrusion at the seating area of injured occupants: CISS measures intrusion, defined as any inward displacement of the internal boundary surface of the passenger compartment caused by direct or indirect damage resulting from external crushing forces applied to the vehicle, on all available vehicles. Intrusions measuring less than three centimeters are not considered significant and are therefore excluded from documentation.

When a CISS-applicable vehicle is towed from the crash scene, a thorough interior inspection is required. This inspection must include intrusion documentation for all sectors of the vehicle's interior, as well as an overall intrusion value for adjacent cargo areas. Seat positions are not used to define intrusion sectors (although seats are contained within these sectors); instead, each row is divided into equidistant zones, allowing for the assessment of areas that may lack a designated seat position (e.g., center zone of the first row).

Intrusion measurements are recorded for each sector along the longitudinal, lateral, and vertical axes. In cases where law enforcement imposes restrictions—such as prohibiting technicians from touching or entering the vehicle—estimated intrusions are determined as accurately as possible dependent on unique circumstances.

(c) adequately photograph interior contact points for each injured occupant: The prevention of deaths and reduction of injuries are the primary goals of the CISS program—identifying occupant contact points within vehicles is a critically important part of this process. Identifying contact points and injury involved physical components provide valuable insight into which body regions may have sustained injuries during crashes.

When crash technicians identify evidence that occupant contact points/injury involved physical components, these vehicle components are carefully documented and photographed. Established CISS protocols emphasize thorough inspections of photographs of vehicle interiors to locate all potential occupant contact points.

Accurately identifying occupant contact evidence is a specialized skill developed over time. This process can be complicated by factors such as post-crash extrication, lag times between the crash and inspection dates, and vehicle storage practices at salvage yards.

(d) describe the precrash movements of vehicles, violations of traffic signs/signals: CISS crash data collections capture detailed information about vehicle movement leading up to a crash, using the following precrash variables:

i. Driver's Distraction/Inattention to Driving (Prior to Recognition of Critical Event)

ii. Pre-Event Movement (Prior to Recognition of Critical Event)

iii. Critical Precrash Category

iv. Critical Precrash Event

v. Attempted Avoidance Maneuver

vi. Pre-Impact Stability

vii. Pre-Impact Location

viii. Crash Type

These precrash variables are designed to identify the following:

i. What was this vehicle doing just prior to the critical precrash event?

ii. What made this vehicle's situation critical?

iii. What was the avoidance response, if any, to this critical situation?

iv. What was the movement of the vehicle just prior to impact?

It is important to note that CISS does not assess driver culpability. While some scenarios may suggest fault, any such implication is coincidental and not intentional within the design of the program.

Sub comment in part (d): Overall, CISS cases are a degradation from NASS-CDS case files. There is large variability in quality among different PSU sites, demonstrating a lack of oversight and quality assurance across PSUs.

Data quality remains NHTSA's priority and CISS represents a significant advancement over NASS-CDS across several key program areas:

1. Statistical Improvement: CISS features improved statistical methodologies, including better weighting due to the larger number of sites. Additionally, all collected data is incorporated into the SAS file, with many more datasets available. In contrast, NASS often collected more data, but a substantial portion was not included in the statistical files. More comprehensive explanations of the sample design and statistical methods used in CISS are provided in the responses to the commenter's above assertions. Additional details regarding the CISS sample design and weighting methodology are also available online.6 7

⁶ Zhang, F., Subramanian, R., Chen, C.-L., & Young Noh, E.Y. (2019, September; Revised 2024, October). Crash Investigation Sampling System: Design overview, analytic guidance, and FAQs (Report No. DOT HS 812 801). National Highway Traffic Safety Administration.

⁷ Zhang, F., Noh, E.Y., Subramanian, R., & Chen, C.-L. (2019, September). Crash Investigation Sampling System: Sample design and weighting (Report No. DOT HS 812 804). Washington, DC: National Highway Traffic Safety Administration.

2. Enhanced Data Collection: The acquisition rates for towed vehicles and Event Data Recorder (EDR) data are significantly improved, leading to less missing data and more comprehensive datasets overall.

3. More Detailed Injury Coding: CISS implements a more complex and refined injury coding scheme, offering a greater level of detail and accuracy in injury classification.⁸

⁸ Documenting Injuries in NHTSA's CISS Program, ESV Paper Number 17-0173, Mynatt, et. al.

4. Advanced Field Data Collection: CISS employs superior data collection techniques, such as total station measurements, replacing the older methods of roller wheels and tape measures. This enhances both the precision and reliability of field data.⁹

⁹ Improved Field Measurement in NHTSA's CISS Program, ESV Paper Number 17-0174, Mynatt, et. al.

5. Expanded EDR Manufacturer Support: CISS supports a broader range of EDR manufacturers, including Hyundai/Kia and Tesla, which were not available in NASS. This enables more comprehensive data collection across different vehicle models.

Comments From IMMI and NHTSA's Responses

IMMI, a manufacturer of passive safety products for heavy vehicles, supports NHTSA's expansion of crash data collection to include heavy vehicle crashes. IMMI highlights the importance of this data for improving occupant safety by better understanding crash dynamics and injury causes. NHTSA acknowledges and agrees with IMMI that expanded data collection for heavy vehicles is essential for advancing safety and understanding injury mechanisms specific to these crashes.

Program: CISS

Affected Public: People involved in select motor vehicle crashes, law enforcement jurisdictions that provide access to and a copy of the crash report where the data is not electronic; hospitals that provide a copy of the injured occupant's medical treatment of injuries; and tow or salvage lot facilities that provide access to the storage facility to inspect the vehicle.

Estimated Number of Respondents: 37,157.

Frequency: On Occasion.

Estimated Number of Responses: 92,095 (32,850 + 21,424 + 1,550 + 21,763 + 14,508).

Estimated Total Annual Burden Hours: 17,245 hours (10,950 + 1,071 + 388 + 3,627 + 1,209).

The CISS crash data acquisition system includes 5 information collections. The first information collection covers the collection of information from individuals involved in crashes via interview. The estimated number of interview respondents is obtained by multiplying the approximate number of crashes investigated each year by the average number of interviews per crash. Based on existing data, each CISS crash involves an average of approximately 2.25 individuals. NHTSA estimates that CISS conducts investigations on 14,600 crashes per year. Therefore, NHTSA estimates that there will be 32,850 respondents per year (14,600 crashes × 2.25 respondents per crash).

The respondents are contacted only once; however, in rare circumstances follow-up questions may be needed to clarify data. The interview requires approximately 20 minutes of a respondent's time on average. CISS conducts interviews for approximately 14,600 crashes per year, which NHTSA estimates takes about 45 minutes per crash (2.25 respondents × 20 minutes). Therefore, the estimated total annual burden hours for the collection of information from individuals involved in crashes for CISS is 10,950 hours ((14,600 crashes × 45 minutes) ÷ 60 minutes/hour).

In addition to interviews, crash technicians and investigators must obtain official records to initiate and complete the cases. These records include police crash reports and medical records. The second information collection under CISS is for the collection of crash records from sampled police jurisdictions. NHTSA estimates that there are 412 sample police jurisdictions annually. To estimate the burden to sampled police jurisdictions, NHTSA multiplied the average number of visits per year by the average burden per visit and the number of police jurisdictions. On average, each of the 412 sampled police jurisdictions are queried weekly (or 52 times per year) and each query is estimated to take 3 minutes. Accordingly, NHTSA estimates the total annual burden for sampled police jurisdictions to be 2.6 hours per respondent (3 minutes × 52 visits) and 1,071 hours for all respondents (2.6 hours × 412 police jurisdictions = 1,071.2 hours).

The third information collection under CISS is for the collection of crash records from non-sampled police jurisdictions. Based on existing CISS data, there are 775 non-sampled jurisdictions annually. To estimate the burden to non-sample police jurisdictions, NHTSA multiplied the average number of visits per year by the average burden per visit and the number of non-sampled police jurisdictions. On average, each of the 775 non-sampled police jurisdictions are visited twice annually and each query is estimated to take 15 minutes. Accordingly, NHTSA estimates the total burden for non-sampled police jurisdictions to be 30 minutes per respondent (15 minutes × 2 visits) and 388 hours for all respondents ((30 minutes × 775 non-sampled police jurisdictions) ÷ 60 minutes/hour) = 388 hours).

The fourth information collection under CISS is for the collection of medical records from hospitals. Based on existing data, CISS collects an average of 21,763 records each year from an average of 628 hospitals. NHTSA estimates that a hospital spends 10 minutes for each record requested. Accordingly, NHTSA estimates the total annual burden to be 3,627 hours ((21,763 records × 10 minutes) ÷ 60 minutes/hour) and estimates that each hospital will, on average, spend 5.78 hours providing the requested information each year (3,627 hours ÷ 628 hospitals).

The fifth information collection under CISS is for the collection from tow yards necessary to gain access to and locate a vehicle that was involved in a crash. Typically, a tow facility operator just needs to give the crash technician permission to enter the yard to inspect the vehicle and involves approximately 5 minutes of staff time. CISS data shows an average of 14,508 visits to tow facilities per year, and NHTSA estimates 2,510 tow facilities will be visited annually. Accordingly, NHTSA estimates the total annual burden to be 1,209 hours ((14,508 visits × 5 minutes) ÷ 60 minutes/hour) and estimates that each tow facility will, on average, spend 28.91 minutes providing the requested information each year ((1,209 hours × 60 minutes) ÷ 2,510 facilities).

Accordingly, NHTSA estimates that the total burden associated with the CISS data acquisition system is 17,245 hours (10,950 + 1,071 + 388 + 3,627 + 1,209).

Estimated Total Annual Burden Cost: $0.

There are no capital, start-up, or annual operation and maintenance costs involved in this collection of information. The respondents would not incur any reporting costs from the information collection beyond the opportunity or labor costs associated with the burden hours. The respondents also would not incur any recordkeeping burden or recordkeeping costs from the information collection.

Program: Special Crash Investigation (SCI)

Affected Public: People involved in select motor vehicle crashes, law enforcement jurisdictions that provide access to and a copy of the crash report where the data is not electronic; hospitals that provide a copy of the injured occupant's medical treatment of injuries; and tow or salvage lot facilities that provide access to the storage facility to inspect the vehicle.

Estimated Number of Respondents: 500.

Frequency: On occasion (typically once per year).

Estimated Number of Responses: 500 (200 + 100 + 100 + 100).

Estimated Total Annual Burden Hours: 109 hours (67 + 17 + 17 + 8).

The SCI crash data acquisition system includes 4 information collections. The first information collection covers the collection of information from individuals involved in crashes via interview. The estimated number of interview respondents is obtained by multiplying the approximate number of crashes investigated each year by the average number of interviews per crash. Based on existing data, each SCI crash involves an average of approximately 2 individuals. NHTSA estimates that SCI conducts investigations on approximately 100 crashes per year. Therefore, NHTSA estimates that there will be 200 respondents per year (100 crashes × 2 respondents per crash).

The respondents are contacted only once; however, in rare circumstances follow-up questions may be needed to clarify data. The interview requires approximately 20 minutes of a respondent's time on average. SCI conducts interviews for approximately 100 crashes per year, which NHTSA estimates takes about 40 minutes per crash (2 respondents × 20 minutes). Therefore, the estimated total annual burden hours for the collection of information from individuals involved in crashes for SCI is approximately 67 hours ((100 crashes × 40 minutes) ÷ 60 minutes/hour = 66.67).

In addition to interviews, crash technicians and investigators must obtain official records to initiate and complete the cases. These records include police crash reports and medical records. The second information collection under SCI is for the collection of crash records from police jurisdictions. The SCI investigators contact an estimated 100 police jurisdictions once per year and require approximately 10 minutes of staff time per police jurisdiction. To estimate the burden to these police jurisdictions, NHTSA multiplied the average number of visits per year by the average burden per visit and the number of police jurisdictions. Accordingly, NHTSA estimates the total annual burden for police jurisdictions to be 10 minutes per respondent (10 minutes ×1 query per year) and 17 hours for all respondents ((10 minutes × 100 police jurisdictions) ÷ 60 minutes/hour = 16.67 hours).

The third information collection under SCI is for the collection of medical records from hospitals. Based on existing data, SCI collects an average of 100 records each year from 100 hospitals (1 request per hospital per year). NHTSA estimates that a hospital spends 10 minutes for each record requested. Accordingly, NHTSA estimates the total annual burden to be 17 hours ((100 records × 10 minutes) ÷ 60 minutes/hour = 16.67 hours) and estimates that each hospital will, on average, spend 10 minutes providing the requested information each year (10 minutes × 1 record request per year).

The fourth information collection under SCI is for the collection from tow yards necessary to gain access to and locate a vehicle that was involved in a crash. Typically, a tow facility operator just needs to give the crash technician permission to enter the yard to inspect the vehicle and involves approximately 5 minutes of staff time. SCI conducts approximately 100 visits to tow facilities per year, and NHTSA estimates that 100 tow facilities will be visited annually (1 request per facility per year). Accordingly, NHTSA estimates the total annual burden to be 8 hours ((100 visits × 5 minutes) ÷ 60 minutes/hour = 8.33 hours) and estimates that each tow facility will, on average, spend 5 minutes providing the requested information each year.

Accordingly, NHTSA estimates that the total burden associated with the SCI data acquisition system is 109 hours (67 + 17 + 17 + 8).

Estimated Total Annual Burden Cost: $0.

There are no capital, start-up, or annual operation and maintenance costs involved in this collection of information. The respondents would not incur any reporting costs from the information collection beyond the opportunity or labor costs associated with the burden hours. The respondents also would not incur any recordkeeping burden or recordkeeping costs from the information collection.

Program: Special Studies

Affected Public: Law enforcement jurisdictions that provide access to and a copy of the crash report where the data is not electronic.

Estimated Number of Respondents: 1,000.

Frequency: On occasion (typically once per year).

Estimated Number of Responses: 1,000.

Estimated Total Annual Burden Hours: 167 hours.

There is only one information collection for Special Studies in this ICR. This ICR only covers special studies involving remote-level investigations.¹⁰ Accordingly, these remote-level investigations do not involve interviews of individuals involved in crashes, collection of medical records from hospitals, or visits to tow facilities. Instead, these special studies only involve the collection of information from police jurisdictions.

¹⁰ If NHTSA intends to conduct a special study that is not remote, it will seek separate clearance.

NHTSA estimates that the special studies will involve, on average, 1,000 police jurisdictions each year and require approximately 10 minutes of staff time per police jurisdiction. The total annual hour burden on jurisdictions for special studies information is estimated to be 167 hours (1 visit × 10 minutes × 1,000 jurisdictions ÷ 60 minutes/hour = 166.67).

Estimated Total Annual Burden Cost: $0.

There are no capital, start-up, or annual operation and maintenance costs involved in this collection of information. The respondents would not incur any reporting costs from the information collection beyond the labor costs associated with the burden hours. The respondents also would not incur any recordkeeping burden or recordkeeping costs from the information collection.

Estimated Total Annual Burden Hours All Programs: 17,521 hours.

The total estimated annual burden hours to all respondents for this ICR is 17,521 hours. The table below provides a summary of the estimated annual burden hours.

Information collection title | Number of respondents | Number of responses (per respondent) | Burden per response (min) | Burden per respondent | Total annual burden (hours)
CISS: Interviews with Individuals Involved in Crashes | 32,850 | 32,850 (1) | 20 | 20 minutes | 10,950
CISS: Collection of Police Records from Sampled Jurisdictions | 412 | 21,424(52) | 3 | 156 minutes (2.6 hours) | 1,071
CISS: Collection of Police Records from Non-Sampled Jurisdictions | 775 | 1,550 (2) | 15 | 30 minutes | 388
CISS: Collection of Medical Records | 628 | 21,763 (34.665) | 10 | 5.78 hours | 3,627
CISS: Access to Tow Yards | 2,510 | 14,508 (5.78) | 5 | 28.9 minutes | 1,209
SCI: Interviews with Individuals Involved in Crashes | 200 | 200 (1) | 20 | 20 minutes | 67
SCI: Collection of Police Records | 100 | 100 (1) | 10 | 10 minutes | 17
SCI: Collection of Medical Records | 100 | 100 (1) | 10 | 10 minutes | 17
SCI: Access to Tow Yards | 100 | 100 (1) | 5 | 5 minutes | 8
Special Studies: Collection of Police Records | 1,000 | 1000 (1) | 10 | 10 minutes | 167
Total: | 38,675 |  |  |  | 17,521

Estimated Total Annual Burden Cost All Programs: $0.

There is no capital, start-up, or annual operation and maintenance costs involved in this collection of information. The respondents would not incur any reporting costs from the information collection beyond the labor costs associated with the burden hours. The respondents also would not incur any recordkeeping burden or recordkeeping costs from the information collection.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

(Authority: The Paperwork Reduction Act of 1995; 44 U.S.C. Chapter 35, as amended; 49 CFR 1.49; and DOT Order 1351.29A.)

Chou-Lin Chen,
Associate Administrator, National Center for Statistics and Analysis.

[FR Doc. 2025-15373 Filed 8-12-25; 8:45 am]

BILLING CODE 4910-59-P